DEPARTMENT OF HOUSING AND URBAN DEVELOPMENT

[Docket No. FR-5045-N-28]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, U.S. Coast Guard, Attn: Teresa Sheinberg, 2100 Second St, SW., Rm 6109, Washington, DC 20593-0001; (202 267-6142; COE: Ms. Shirley Middleswarth, Army Corps of Engineers, Civil Division, 441 G Street, NW., Washington, DC 20314-1000; (202) 761-1295; ENERGY: Mr. John Watson, Department of Energy, Office of Engineering & Construction Management, ME-90, 1000 Independence Ave, SW., Washington, DC 20585: (202) 586-0072; GSA: Mr. John Kelly, Acting Deputy Assistant Commissioner, General Services Administration, Office of Property Disposal, 18th & F Streets, NW., Washington, DC 20405; (202) 501-0084; INTERIOR: Ms. Linda Tribby, Acquisition & Property Management, Department of the Interior, 1849 C Street, NW., MS5512, Washington, DC 20240; (202) 513-0747; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: July 6, 2006
Mark R. Johnston,
Acting Deputy Assistant, Secretary for Special Needs.

Title V, Federal Surplus Property Program

Federal Register Report For 7/14/06

Unsuitable Properties

Buildings (by State)

California

Bldgs. 67B, 67C

Lawrence Berkeley Natl Lab

Berkeley Co: Alameda CA 94720-

Landholding Agency: Energy

Property Number: 41200620025

Status: Excess

Reason: Extensive deterioration

Bldgs. 71E

Lawrence Berkeley Natl Lab

Berkeley Co: Alameda CA 94720-

Landholding Agency: Energy

Property Number: 41200620026

Status: Excess

Reason: Extensive deterioration

Colorado

Bldg. 187

Rocky Mountain Natl Park

Grand Lake Co: Grand CO 80447-

Landholding Agency: Interior

Property Number: 61200620006

Status: Unutilized

Reason: Extensive deterioration

Bldgs. 835, 865

Rocky Mountain Natl Park

Grand Lake Co: Grand CO 90447-

Landholding Agency: Interior

Property Number: 61200620007

Status: Unutilized

Reason: Extensive deterioration

Bldg. 889

Rocky Mountain Natl Park

Grand Lake Co: Grand CO 80447-

Landholding Agency: Interior

Property Number: 61200620008

Status: Unutilized

Reason: Extensive deterioration

Bldgs. 911, 912, 913

Rocky Mountain Natl Park

Grand Lake Co: Grand CO 80447-

Landholding Agency: Interior

Property Number: 61200620009

Status: Unutilized

Reason: Extensive deterioration

Bldg. 918

Rocky Mountain Natl Park

Grand Lake Co: Grand CO 80447-

Landholding Agency: Interior

Property Number: 61200620010

Status: Unutilized

Reason: Extensive deterioration

Bldg.

Green Mountain Power Plant

Silverthorne Co: Summit CO 80498-

Landholding Agency: Interior

Property Number: 61200620011

Status: Excess

Reason: Extensive deterioration

Guam

Bldgs. 151, 152, 153

Naval Forces Marianas

Santa Rita Co: Apra Harbor GU

Landholding Agency: Navy

Property Number: 77200630001

Status: Unutilized

Reason: Extensive deterioration

North Carolina

Preston Clark USARC

1301 N. Memorial Dr.

Greenville Co: Pitt NC 27834-

Landholding Agency: COE

Property Number: 31200620032

Status: Unutilized

Reason: Extensive deterioration

Bldg. 499

Marine Corps Air Station

Cherry Point Co: NC

Landholding Agency: Navy

Property Number: 77200620038

Status: Unutilized

Reason: Secured Area

Bldgs. 3177, 3885

Marine Corps Air Station

Cherry Point Co: NC

Landholding Agency: Navy

Property Number: 77200620039

Status: Unutilized

Reason: Secured Area

Bldg. 4473

Marine Corps Air Station

Cherry Point Co: NC

Landholding Agency: Navy

Property Number: 77200620040

Status: Unutilized

Reason: Secured Area

Bldg. 4523

Marine Corps Air Station

Cherry Point Co: NC

Landholding Agency: Navy

Property Number: 77200620041

Status: Unutilized

Reason: Secured Area

Texas

Helium Plant 10001 Interchange 552

Amarillo Co: Potter TX 79106-

Landholding Agency: GSA

Property Number: 54200620020

Status: Surplus

Reason: Extensive deterioration

GSA Number: 7-I-TX-0772-1

Virginia

Bldg. 011

Integrated Support Center

Portsmouth Co: Norfolk VA 43703-

Landholding Agency: Coast Guard

Property Number: 88200620002

Status: Excess

Reason: Secured Area

[FR Doc. E6-10849 Filed 7-13-06; 8:45 am]

BILLING CODE 4210-67-P